DEPARTMENT OF ENERGY

Federal Energy Regulatory Commission

Notice Announcing Filing Priority for Preliminary Permit Applications

January 28, 2011.

| Project No.
Lock Hydro Friends Fund XLI | 13736-000
Allegheny 7 Hydro, LLC | 13777-000

On January 27, 2011, the Commission held a drawing to determine priority between two competing preliminary permit applications with identical filing times. In the event that the Commission concludes that neither of the applicants' plans is better adapted than the other to develop, conserve, and utilize in the public interest the water resources of the region at issue, the priority established by this drawing will serve as the tiebreaker. Based on the drawing, the order of priority is as follows:

1. Allegheny 7 Hydro, LLC—Project No. 13777-000

2. Lock Hydro Friends Fund XLI—Project No. 13736-000

Nathaniel J. Davis, Sr.,
Deputy Secretary.

[FR Doc. 2011-2623 Filed 2-4-11; 8:45 am]

BILLING CODE 6717-01-P